ENVIRONMENTAL PROTECTION AGENCY

40 CFR Part 112

[FRL-6707-6]

RIN 2050-AE64

Oil Pollution Prevention and Response; Non-Transportation-Related Facilities

Correction

In rule document 00-13976 beginning on page 40776 in the issue of Friday, June 30, 2000, make the following correction:

Appendix F to Part 112 [Corrected]

On page 40816, in the first column, in amendatory instruction 11f., after “section 1.8.3” add “and section 1.9”.

[FR Doc. C0-13976 Filed 7-13-00; 8:45 am]

BILLING CODE 1505-01-D

ENVIRONMENTAL PROTECTION AGENCY

40 CFR Part 52

[VA084/101-5045a; FRL-6562-9]

Approval and Promulgation of Air Quality Implementation Plans; Virginia; Revised Format for Materials Being Incorporated by Reference; Approval of Recodification of the Virginia Administrative Code

Correction

In the issue of Wednesday, July 5, 2000, on page 41525, in the correction of rule document 00-9535, amendatory instruction 2. and the corresponding table should read as follows:

§52.2420 [Corrected]

“2. On page 21334, under the heading “Article 29 Can Coating Application Systems [Rule 4-29]” add the following line to the end of the table:”

EPA-Approved Regulations in the Virginia SIP
State citation (9 VAC 5) | Title/subject | State effective date | EPA approval date | Explanation [Former SIP citation]
Article 29 Can Coating Application Systems [Rule 4-29]
5-40-4150 | Permits | 4/17/95 | [Insert publication date and Federal Register cite] | 120-04-2915.

[FR Doc. C0-9535 Filed 7-13-00; 8:45 am]

BILLING CODE 1505-01-D

ENVIRONMENTAL PROTECTION AGENCY

40 CFR Parts 9, 122, 123, 124, and 130

[FRL-6733-2]

Revisions to the Water Quality Planning and Management Regulation and Revisions to the National Pollutant Discharge Elimination System Program in Support of Revisions to the Water Quality Planning and Management Regulation

Correction

In rule document 00-17831 beginning on page 43586 in the issue of Thursday, July 13, 2000, make the following correction:

On page 43586, in the third column, under FOR FURTHER INFORMATION CONTACT:, in the fifth line, “(202) 260-9549” should read “(202) 401-4078”.

[FR Doc. C0-17831 Filed 7-13-00; 8:45 am]

BILLING CODE 1505-01-D